FEDERAL COMMUNICATIONS COMMISSION

47 CFR Parts 73 and 74

[MB Docket No. 21-263; FCC 21-84; FR ID 38739]

Updating Broadcast Radio Technical Rules

AGENCY: Federal Communications Commission.

ACTION: Proposed rule.

SUMMARY: The Federal Communication Commission proposes to amend the rules applicable to broadcast radio stations to better reflect current requirements and eliminate redundant, outdated, or conflicting technical provisions.

DATES: Comments may be filed on or before September 7, 2021 and reply comments may be filed on or before September 20, 2021.

ADDRESSES: You may submit comments, identified by MB Docket No. 21-263, by any of the following methods:

• Federal Communications Commission's Electronic Comment Filing System (ECFS): http://apps.fcc.gov/ecfs/. Follow the instructions for submitting comments.

• Mail: Filings can be sent by commercial overnight courier, or by first-class or overnight U.S. Postal Service mail. Commercial overnight mail (other than U.S. Postal Service Express Mail and Priority Mail) must be sent to 9050 Junction Drive, Annapolis Junction, MD 20743. U.S. Postal Service First Class, Express, and Priority mail must be addressed to 45 L Street NE, Washington, DC 20554. All filings must be addressed to the Commission's Secretary, Office of the Secretary, Federal Communications Commission.

• People with Disabilities: Contact the FCC to request reasonable accommodations (accessible format documents, sign language interpreters, CART, etc.) by email: FCC504@fcc.gov or phone: 202-418-0530 or TTY: 888-835-5322.

FOR FURTHER INFORMATION CONTACT: James Bradshaw, Deputy Division Chief, Media Bureau, Audio Division (202) 418-2739, James.Bradshaw@fcc.gov; Christine Goepp, Attorney Advisor, Media Bureau, Audio Division, (202) 418-7834, Christine.Goepp@fcc.gov.

SUPPLEMENTARY INFORMATION: This is a summary of the Commission's Notice of Proposed Rulemaking (NPRM), MB Docket No. 21-263, FCC 21-84, adopted and released on July 12, 2021. The full text of this document will be available for public inspection and copying via ECFS. The full text of this document can also be downloaded in Word or Portable Document Format (PDF) at http://www.fcc.gov/ndbedp.

Synopsis

1. The Federal Communication Commission proposes to amend the following rules applicable to broadcast radio stations to better reflect current requirements and eliminate redundant, outdated, or conflicting technical provisions.

2. Maximum rated transmitter power for AM stations. The Commission proposes to amend 47 CFR 73.1665(b) to remove the maximum rated transmitter power limit for AM stations and delete the corresponding “Table 1 to paragraph (b).” The Commission tentatively concludes that an equipment limitation on potential transmitter power is outdated and unnecessary given its current reliance on actual operating antenna input power as the most accurate and effective means of ensuring that AM stations adhere to their authorized power limits. The restriction on AM transmitter power goes back many decades and was adopted in substantially its current form in 1978. The Commission tentatively concludes that retaining an equipment-based maximum rated transmitter power rule is unnecessary and inconsistent with the standard governing the operating power of AM stations set out in 47 CFR 73.51. It seeks comment on eliminating this requirement and on any other changes to the rules necessary or appropriate to reflect this change.

3. NCE community of license coverage. The Commission proposes to amend 47 CFR 73.316(c)(2)(ix)(B) and 73.1690(c)(8)(i) to harmonize with the later-adopted NCE FM community coverage standard set out in 47 CFR 73.515. Specifically, it proposes that the requirement in section 73.515 that stations reach 50% of their community of license or 50% of the population in their community should replace the more general requirement in sections 73.316(c)(2)(ix)(B) and 73.1690(c)(8)(i) that the station cover “a portion of the community.” Applications covered by sections 73.316(c)(2)(ix)(B) and 73.1690(c)(8)(i) must already satisfy the requirement set out in section 73.515. To harmonize these provisions, the Commission proposes to amend these two rules to state that an NCE FM station operating on a reserved channel must provide a predicted 60 dBμ signal to at least 50% of its community of license or reach 50% of the population within the community. It seeks comment on this proposal.

4. FM transmitter interference to nearby antennas. The Commission proposes to eliminate 47 CFR 73.316(d), which it tentatively concludes is an unnecessary burden on applicants. This is a seldom-used rule, which the Commission tentatively concludes does not prevent interference to any significant degree, if at all. The Commission seeks comment on this tentative conclusion as well as any other applicable considerations it should take into account when eliminating this rule. Section 73.316(d) provides that “[a]pplications proposing the use of FM transmitting antennas in the immediate vicinity (i.e., 60 meters or less) of other FM or TV broadcast antennas must include a showing as to the expected effect, if any, of such approximate operation.” Based on the Commission's experience, it tentatively concludes that broadcast radio antennas within this physical proximity are unlikely to create interference problems if they are otherwise compliant with the transmission system requirements set out in 47 CFR 73.317 and states that it is not aware of any industry complaints of such interference during the more than 70 years this rule has been in effect. Therefore, the Commission proposes to eliminate section 73.316(d) as an unnecessary application requirement and seeks comment on this proposal.

5. NCE FM Class D second-adjacent channel interference ratio. The Commission proposes to amend 47 CFR 73.509(b), which sets out signal strength contour overlap requirements for NCE FM Class D stations, to harmonize with the more permissive standard applied to all other NCE-FM stations. This change will create consistency across different NCE FM station classes regarding contour overlap limitations. The Commission tentatively concludes that the current Class D contour overlap requirement is not necessary given the proven efficacy of the less restrictive requirements for other stations and anticipates that this change will allow Class D stations greater site selection flexibility as well as the opportunity to potentially increase their coverage areas. Currently, section 73.509(b) provides that applications by NCE FM Class D station licensees will not be accepted if they propose overlap of the applicant station's 80 dBu (interfering) contour with the 60 dBu (protected) contour of any second-adjacent channel station (i.e., a 20 dBu interference ratio). In contrast, section 73.509(a) prohibits overlap of any other NCE applicant station's 100 dBu (interfering) contour with the 60 dBu (protected) contour of any second-adjacent channel station (i.e., a 40 dBu interference ratio). When it adopted section 73.509(a) in 2000, the Commission explained that the 100 dBu standard is a better gauge of potential second-adjacent channel interference than the 80 dBu standard and that adoption of a less preclusive 100 dBu standard would create opportunities for NCE FM and FM translator stations to increase power and coverage, and provide them with greater site selection flexibility. However, because of a then-pending proceeding to establish the LPFM service, the Commission deferred any action on proposals involving NCE FM Class D stations. The LPFM service has now been established and is currently a relatively mature service, so the Commission tentatively concludes that the time is ripe to extend the otherwise universal 100 dBu contour overlap standard for second-adjacent channels to NCE FM Class D stations. It seeks comment on this proposal.

6. Protection for grandfathered common carriers in Alaska in the 76-100 MHz band. The Commission proposes to delete the outdated requirement that radio stations operating in the 76-100 MHz band protect common carrier services in Alaska. It states that this rule is unnecessary and obsolete because the Commission's licensing databases indicate that there are no common carrier services remaining in this band in Alaska. The relevant provisions, 47 CFR 73.501(b), 74.1202(b)(3), the second sentence of 74.702(a)(1), and the second sentence of 74.786(b), all contain similar language requiring broadcast services to protect grandfathered common carrier services in Alaska operating in the 76-100 MHz frequency band. With the exception of section 74.786(b), which was added in 2004 to apply the Alaska rule to digital LPTV and TV translators, this suite of rule provisions was created in 1982 when the Commission reallocated the 76-100 MHz band in Alaska from government and non-government fixed services to broadcast services. In doing so, the Commission grandfathered existing common carrier operations, protecting them from new broadcast services in that band. At the time, the Commission anticipated that such protection would become unnecessary as the common carriers gradually moved to other parts of the spectrum. Accordingly, in 2005, the Commission deleted two of the original five rules on the basis that there were no longer any common carrier stations in Alaska in the 76-100 MHz band. For the same reason, the Commission proposes to delete the remaining sections 73.501(b), 74.1202(b)(3), and portions of 74.702(a)(1) and 74.786(b) of the Commission's rules as obsolete and unnecessary. It seeks comment on this proposal.

7. AM fill-in area definition. The Commission proposes to amend the definition of “AM fill-in area” set out in 47 CFR 74.1201(j) to conform to the requirement in 47 CFR 74.1201(g) that the “coverage contour of an FM translator rebroadcasting an AM radio broadcast station as its primary station must be contained within the greater of either the 2 mV/m daytime contour of the AM station or a 25-mile (40 km) radius centered at the AM transmitter site.” It does not propose any change to section 74.1201(g). The Commission anticipates that this change will create consistency across different rules governing fill-in translator transmitter siting. In 2009, when it modified the FM translator rules to allow AM stations to retransmit using fill-in FM translators, the Commission adopted new section (j) and amended section (g) to define an AM fill-in area for FM translators as the lesser of the 2 mV/m daytime contour of the AM station and a 25-mile (40 km) radius centered at the AM transmitter site. When the Commission relaxed this cross-service siting requirement in 2017, it amended section (g) to provide that an FM translator rebroadcasting an AM broadcast station must be located such that the 60 dBu contour is contained within the greater of either (a) the 2 mV/m daytime contour of the AM station, or (b) a 25-mile radius centered at the AM station's transmitter site. However, it did not update section (j) to reflect this change. The Commission proposes to do so now and seeks comment on this proposal.

8. International agreements. To fully implement the provisions of relevant agreements with the Canadian and Mexican governments, the Commission proposes to amend 47 CFR 73.207(b) and 74.1235(d). Section 73.207(b)(2) states, “Under the Canada-United States FM Broadcasting Agreement, domestic U.S. allotments and assignments within 320 kilometers (199 miles) of the common border must be separated from Canadian allotments and assignments by not less than the distances given in Table B, which follows.” The 1991 U.S.-Canada FM Broadcasting Agreement contains minimum distance separations but also offers contour overlap parameters for short-spaced stations to demonstrate compliance with the Agreement. Accordingly, the Commission proposes to include contour overlap-based protection for short-spaced stations in this rule. It also proposes to replace the current Table B with the superseding minimum distance separations table set out in a 1997 Amendment to the 1991 U.S.-Canada FM Broadcasting Agreement.

9. Currently, section 73.207(b)(3) provides that “[u]nder the 1992 Mexico-United States FM Broadcasting Agreement, domestic U.S. assignments or allotments within 320 kilometers (199 miles) of the common border must be separated from Mexican assignments or allotments by not less than the distances given in Table C in this paragraph (b)(3).” This provision is no longer accurate, as, except for intermediate frequency separations, the 1992 U.S.-Mexico FM Broadcasting Agreement provides for contour-overlap-based protection as well as minimum spacing protection. Therefore, the Commission proposes to revise this section to include contour overlap-based protection for short-spaced stations. It seeks comment on these proposed changes.

10. The Commission also proposes to update 47 CFR 74.1235(d), governing FM translators, to conform with the relevant treaties. With respect to Canada, section 74.1235(d) states, “Applications for FM translator stations located within 320 km of the Canadian border will not be accepted if they specify more than 50 watts effective radiated power in any direction or have a 34 dBu interference contour, calculated in accordance with § 74.1204 of this part, that exceeds 32 km.” This provision codifies section 4.3 of the 1991 U.S.-Canada FM Broadcasting Agreement. In 1997, the United States and Canada amended section 4.3 of the 1991 U.S.-Canada FM Broadcasting Agreement to increase the permissible effective radiated power (ERP) for border FM translator stations from 50 to 250 watts and the interference contour from 32 to 60 kilometers. To implement this change, in 1998, the Commission amended section 74.1235 by adding section (d)(3), which states, “Applications for translator or booster stations within 320 km of the Canadian border may employ an ERP up to a maximum of 250 watts, as specified in § 74.1235(a) and (b). The distance to the 34 dBu interfering contour may not exceed 60 km in any direction.” Because the first sentence of section (d) is now outdated and conflicts with section (d)(3), the Commission proposes to modify it to conform to current treaty requirements and to eliminate section (d)(3).

11. With respect to Mexico, section 74.1235(d) provides, “FM translator stations located within 320 kilometers of the Mexican border must be separated from Mexican allotments and assignments in accordance with § 73.207(b)(3) of this chapter and are limited to a transmitter power output of 10 watts or less. For purposes of compliance with that section, FM translators will be considered as Class D FM stations.” In the 1992 U.S.-Mexico FM Broadcasting Agreement, translator stations are classified as LPFM stations rather than full service stations, and thus not subject to distance separation requirements. The Commission tentatively concludes that neither the rules nor the relevant international agreements require translator stations to adhere to those distance separations. In addition, the 10-watt transmitter power output limitation is a superseded provision originally set out in the U.S.-Mexican FM Broadcast Agreement of 1972 and is no longer consistent with current treaty requirements. For these reasons, the Commission proposes to delete these two sentences in the introductory paragraph of section 74.1235(d) and seeks comments on this proposal.

12. Finally, the Commission proposes to revise the translator power limitations set out in 47 CFR 74.1235(d)(1) and (2). The 1992 U.S.-Mexico FM Broadcasting Agreement provides in relevant part that a translator's ERP may not exceed 50 watts in the direction of the other country nor produce an interfering contour more than 32 kilometers in the direction of the other country. Within 125 km of the common border, the maximum distance to the protected contour of a translator must be 8.7 km in the direction of the other country. However, a translator located more than 125 km from the border may operate with more than 50 watts in the direction of the other country, provided that its protected contour is not greater than, starting from 125 km from the border, 8.7 km in the direction of the other country. In addition, under the 1992 U.S.-Mexico FM Broadcasting Agreement, translators must protect the allotments and assignments of the other country based on their maximum permitted parameters. To accurately implement these provisions, the Commission proposes to amend sections 74.1235(d)(1) and (2) to reflect current treaty requirements, as set out in Appendix A. Because these changes are intended to codify the existing state of international agreements to which the United States is a party, the Commission requests commenters to focus on whether the proposed changes properly implement the relevant treaty provisions rather than suggest changes to any of the agreed-upon limits.

Comments and Reply Comments

13. Filing Requirements.—Comments and Replies. Pursuant to 47 CFR 1.415 and 1.419, interested parties may file comments and reply comments on or before the dates indicated in the DATES section of this notice. Comments may be filed using the Commission's Electronic Comment Filing System (ECFS). See Electronic Filing of Documents in Rulemaking Proceedings, 63 FR 24121 (1998).

• Electronic Filers: Comments may be filed electronically using the internet by accessing the ECFS: http://apps.fcc.gov/ecfs/.

• Paper Filers: Parties who choose to file by paper must file an original and one copy of each filing. If more than one docket or rulemaking number appears in the caption of this proceeding, filers must submit two additional copies for each additional docket or rulemaking number.

Filings can be sent by commercial overnight courier or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20743.

• U.S. Postal Service First Class, Express, and Priority mail must be addressed to 45 L Street NE, Washington, DC 20554.

14. People with Disabilities. To request materials in accessible formats for people with disabilities (braille, large print, electronic files, audio format), send an email to fcc504@fcc.gov or call the Consumer & Government Affairs Bureau at 202-418-0530 (voice), 202-418-0432 (tty).

15. Availability of Documents. Comments, reply comments, and ex parte submissions will be available via ECFS.

Procedural Matters

Ex Parte Rules

16. This proceeding shall be treated as a “permit-but-disclose” proceeding in accordance with the Commission's ex parte rules, 47 CFR 1.1200 et seq. Persons making ex parte presentations must file a copy of any written presentation or memorandum summarizing any oral presentation within two business days after the presentation (unless a different deadline applicable to the Sunshine Period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to the Commission staff during ex parte meetings are deemed to be written ex parte presentations and must be filed consistent with 47 CFR 1.1206(b). In proceedings governed by 47 CFR 1.49(f) or for which the Commission has made available a method of electronic filing, written ex parte presentations and memoranda summarizing oral ex parte presentations, and all attachments thereto, must be filed through the electronic comment filing system available for that proceeding, and must be filed in their native format (e.g., .doc, .xml, .ppl, searchable .ppl). Participants in this proceeding should familiarize themselves with the Commission's ex parte rules.

17. Initial Paperwork Reduction Act Analysis. This document does not contain proposed new or modified information collection requirements subject to the Paperwork Reduction Act of 1995 (PRA), Public Law 104-13. In addition, therefore, it does not contain any new or modified information collection for small business concerns with fewer than 25 employees, pursuant to the Small Business Paperwork Relief Act of 2002, Public Law 107-198, see 44 U.S.C. 3506(c)(4).

Initial Regulatory Flexibility Analysis

18. As required by the Regulatory Flexibility Act of 1980, as amended (RFA), the Commission has prepared this Initial Regulatory Flexibility Analysis (IRFA) of the possible significant economic impact on a substantial number of small entities by the policies proposed in the Notice of Proposed Rulemaking (NPRM). Written public comments are requested on this IRFA. Comments must be identified as responses to the IRFA and must be filed by the deadlines for comments on the NPRM provided on the first page of the NPRM. The Commission will send a copy of this entire NPRM, including this IRFA, to the Chief Counsel for Advocacy of the Small Business Administration (SBA). In addition, the NPRM and the IRFA (or summaries thereof) will be published in the Federal Register.

A. Need for, and Objectives of, the Proposed Rule Changes

19. The Commission initiates this rulemaking proceeding to obtain comments regarding its proposal to update certain of its technical rules to better reflect current requirements and eliminate redundant, outdated, or conflicting provisions. Specifically, the Commission seeks comment on the following proposed rule changes: (1) Eliminating the maximum rated transmitter power limit rule for AM stations; (2) updating rule provisions containing an NCE FM community of license coverage requirement; (3) eliminating the requirement that applicants demonstrate the effect of any FM applicant transmitting antenna on nearby FM or TV broadcast antennas; (4) updating the signal strength contour overlap requirements for NCE FM Class D stations to harmonize with the contour overlap requirements for all other NCE FM stations; (5) eliminating the requirement for broadcast services to protect grandfathered common carrier services in Alaska operating in the 76-100 MHz frequency band; (6) harmonizing the definition of an “AM fill-in area” set out in multiple rule sections; and (7) amending the power limits for translators within 320 kilometers of the Mexican and Canadian borders to comply with current treaty provisions.

B. Legal Basis

20. The proposed action is authorized pursuant to sections 1, 4(i), 4(j), 301, 303, 307, 308, 309, 316, and 319 of the Communications Act, 47 U.S.C. 151, 154(i), 154(j), 301, 303, 307, 308, 309, 316, 319.

C. Description and Estimate of the Number of Small Entities to Which the Proposed Rules Will Apply

21. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the SBA. The rules proposed herein will directly affect small television and radio broadcast stations. Below, we provide a description of these small entities, as well as an estimate of the number of such small entities, where feasible.

22. Radio Stations. This Economic Census category “comprises establishments primarily engaged in broadcasting aural programs by radio to the public.” The SBA has created the following small business size standard for this category: Those having $41.5 million or less in annual receipts. Census data for 2012 show that 2,849 firms in this category operated in that year. Of this number, 2,806 firms had annual receipts of less than $25 million, and 43 firms had annual receipts of $25 million or more. Because the Census has no additional classifications that could serve as a basis for determining the number of stations whose receipts exceeded $41.5 million in that year, we conclude that the majority of radio broadcast stations were small entities under the applicable SBA size standard.

23. Apart from the U.S. Census, the Commission has estimated the number of licensed commercial AM radio stations to be 4,406 and the number of commercial FM radio stations to be 6,726 for a total number of 11,132, along with 8,126 FM translator and booster stations. As of September 2019, 4,294 AM stations and 6,739 FM stations had revenues of $41.5 million or less, according to Commission staff review of the BIA Kelsey Inc. Media Access Pro Television Database (BIA). In addition, the Commission has estimated the number of noncommercial educational FM radio stations to be 4,195. NCE stations are non-profit, and therefore considered to be small entities. Therefore, we estimate that the majority of radio broadcast stations are small entities.

D. Description of Projected Reporting, Recordkeeping, and Other Compliance Requirements

24. The NPRM proposes to amend existing rules to better reflect current requirements and eliminate redundant, outdated, or conflicting provisions. None of the proposed revisions require additional paperwork obligations and in one instance eliminates a currently required application showing.

E. Steps Taken To Minimize Significant Impact on Small Entities and Significant Alternatives Considered

25. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

26. In the NPRM, the Commission proposes to amend existing rules to better reflect current requirements and eliminate redundant, outdated, or conflicting provisions. The proposed rules will eliminate the requirement that applicants demonstrate the effect of any FM applicant transmitting antenna on nearby FM or TV broadcast antennas. They will also eliminate the need for small entities and other licensees to comply with outdated technical regulations such as the maximum rated transmitter power limit rule for AM stations, the signal strength contour overlap requirements for NCE FM Class D stations, and the requirement for broadcast services to protect grandfathered common carrier services in Alaska operating in the 76-100 MHz frequency band. In addition, the rules clarify and harmonize provisions such as the definition of an “AM fill-in area,” power limits for FM translators near the Canadian and Mexican borders, and required community of license coverage for NCE FM stations, many of whom are small entities. These revisions will make the rules more transparent and accessible to small entities and thus reduce the need for expert engineering or legal assistance with compliance and reporting requirements.

27. Alternatives considered by the Commission include retaining the existing rules and amending other, related rules to further improve the accuracy of the Code of Federal Regulations. The Commission seeks comment on the effect of the proposed rule changes on all affected entities. The Commission is open to consideration of alternatives to the proposals under consideration, including but not limited to alternatives that will minimize the burden on broadcasters, many of whom are small businesses.

F. Federal Rules That May Duplicate, Overlap, or Conflict With the Proposed Rule

28. None.

Ordering Clauses

29. Accordingly, it is ordered that, pursuant to the authority contained in sections 1, 4(i), 4(j), 301, 303, 307, 308, 309, 316, and 319 of the Communications Act of 1934, as amended, 47 U.S.C. 151, 154(i), 154(j), 301, 303, 307, 308, 309, 316, and 319, this Notice of Proposed Rulemaking is adopted.

30. It is further ordered that the Commission's Consumer and Governmental Affairs Bureau, Reference Information Center, shall send a copy of this Notice of Proposed Rulemaking, including the Initial Regulatory Flexibility Analysis, to the Chief Counsel for Advocacy of the Small Business Administration.

List of Subjects

47 CFR Part 73

Mexico, Radio.

47 CFR Part 74

Radio.

Federal Communications Commission.
Cecilia Sigmund,
Federal Register Liaison Officer, Office of the Secretary.

Proposed Rules

For the reasons discussed in the preamble, the Federal Communications Commission proposes to amend 47 CFR part 73 and part 74 as follows:

PART 73—RADIO BROADCAST SERVICES

1. The authority citation for part 73 continues to read as follows:

Authority: 47 U.S.C. 154, 155, 301, 303, 307, 309, 310, 334, 336, 339.

2. Amend § 73.207 by revising paragraphs (b)(2) and (3) to read as follows:

§ 73.207 Minimum distance separation between stations.

* * * * *

(b) * * *

(2) Unless demonstrating compliance with the overlap provisions of the 1991 United States-Canada FM Broadcasting Agreement, any domestic U.S. allotment or assignment within 320 kilometers (199 miles) of the common border must be separated from Canadian allotments and assignments by not less than the distances given in Table B, which follows. When applying Table B, U.S. Class C0 allotments and assignments are considered to be Class C; U.S. Class C2 allotments and assignments are considered to be Class B; and U.S. Class C3 allotments and assignments are considered to be Class B1.

Table B to Paragraph (b)—Minimum Distance Separation Requirements in Kilometers
Relation | Co-channel: 0 kHz | Adjacent channels: 200 kHz | Adjacent channels: 400 kHz | Adjacent channels: 600 kHz | I.F.: 10.6/10.8 MHz
A1-A1 | 78 | 45 | 24 | 20 | 4
A1-A | 131 | 78 | 44 | 40 | 7
A1-B1 | 164 | 98 | 57 | 53 | 9
A1-B | 190 | 117 | 71 | 67 | 12
A1-C1 | 223 | 148 | 92 | 88 | 19
A1-C | 227 | 162 | 103 | 99 | 26
A-A | 151 | 98 | 51 | 42 | 10
A-B1 | 184 | 119 | 64 | 55 | 12
A-B | 210 | 137 | 78 | 69 | 15
A-C1 | 243 | 168 | 99 | 90 | 22
A-C | 247 | 182 | 110 | 101 | 29
B1-B1 | 197 | 131 | 70 | 57 | 24
B1-B | 223 | 149 | 84 | 71 | 24
B1-C1 | 256 | 181 | 108 | 92 | 40
B1-C | 259 | 195 | 116 | 103 | 40
B-B | 237 | 164 | 94 | 74 | 24
B-C1 | 271 | 195 | 115 | 95 | 40
B-C | 274 | 209 | 125 | 106 | 40
C1-C1 | 292 | 217 | 134 | 101 | 48
C1-C | 302 | 230 | 144 | 111 | 48
C-C | 306 | 241 | 153 | 113 | 48

(3) Unless demonstrating compliance with the overlap provisions of the 1992 United States-Mexico FM Broadcasting Agreement, any domestic U.S. assignment or allotment within 320 kilometers (199 miles) of the common border must be separated from Mexican assignments or allotments by not less than the distances given in Table C in this paragraph (b)(3). However, the I.F. minimum distance separations in Table C apply regardless of short-spaced status. When applying Table C—

* * * * *

3. Amend § 73.316 by revising the second sentence of (c)(2)(ix)(B), removing paragraph (d), and redesignating paragraph (e) as paragraph (d) to read as follows:

§ 73.316 FM antenna systems.

* * * * *

(c) * * *

(2) * * *

(ix) * * *

(B) * * * The application for license must also demonstrate that coverage of the community of license by the 70 dBu contour is maintained for stations authorized pursuant to § 73.215 on Channels 221 through 300, as required by § 73.315(a), while noncommercial educational stations operating on Channels 201 through 220 must show that the proposed transmitter location will provide a minimum field strength of 1 mV/m (60 dBu) over at least 50 percent of its community of license or reach 50 percent of the population within the community.

* * * * *

§ 73.501 [Amended]

4. Amend § 73.501 by removing and reserving paragraph (b).

5. Amend § 73.509 by revising paragraph (b) to read as follows:

§ 73.509 Prohibited overlap.

* * * * *

(b) An application by a Class D (secondary) station, other than an application to change class, will not be accepted if the proposed operation would involve overlap of signal strength contours with any other station as set forth in Table 2 to paragraph (b):

Table 2 to Paragraph (b)
Frequency separation | Contour of proposed station | Contour of any other station
Co-channel | 0.1 mV/m (40 dBu) | 1 mV/m (60 dBu).
200 kHz | 0.5 mV/m (54 dBu) | 1 mV/m (60 dBu).
400/600 kHz | 100 mV/m (100 dBu) | 1 mV/m (60 dBu).

6. Amend § 73.1665 by revising paragraph (b) and removing Table 1 to paragraph (b) to read as follows:

§ 73.1665 Main transmitters.

* * * * *

(b) There is no maximum manufacturer-rated power limit for AM, FM, TV or Class A TV station transmitters.

* * * * *

7. Amend § 73.1690 by revising the second sentence of paragraph (c)(8)(i) to read as follows:

§ 73.1690 Modification of transmission systems.

* * * * *

(c) * * *

(8) * * *

(i) * * * Noncommercial educational FM stations must continue to provide a 60 dBu contour over at least 50 percent of its community of license or reach 50 percent of the population within the community. * * *

* * * * *

PART 74—EXPERIMENTAL RADIO, AUXILIARY, SPECIAL BROADCAST AND OTHER PROGRAM DISTRIBUTIONAL SERVICES

8. The authority citation for part 74 continues to read as follows:

Authority: 47 U.S.C. 154, 302a, 303, 307, 309, 310, 336 and 554.

§ 74.702 [Amended]

9. Amend § 74.702 by removing the second sentence of paragraph (a)(1).

§ 74.786 [Amended]

10. Amend § 74.786 by removing the second sentence of paragraph (b). Amend § 74.1201 by revising paragraph (j) to read as follows:

§ 74.1201 Definitions.

* * * * *

(j) AM Fill-in area. The area within the greater of the 2 mV/m daytime contour of the AM radio broadcast station being rebroadcast or a 25-mile (40 km) radius centered at the AM transmitter site.

* * * * *

§ 74.1202 [Amended]

11. Amend § 74.1202 by removing paragraph (b)(3).

12. Amend § 74.1235 by revising paragraph (d) to read as follows:

§ 74.1235 Power limitations and antenna systems.

* * * * *

(d) Applications for FM translator stations located within 320 km of the Canadian border will not be accepted if they specify more than 250 watts effective radiated power in any direction or have a 34 dBu interference contour that exceeds 60 km. Applications for FM translator stations located within 320 kilometers of the Mexican border must adhere to the following provisions.

(1) Translator stations located within 125 kilometers of the Mexican border may operate with a maximum ERP of 250 watts (0.250 kW) but must not exceed an ERP of 50 watts (0.050 kW) in the direction of the Mexican border. A translator station may not produce an interfering contour in excess of 32 km from the transmitter site in the direction of the Mexican border, nor may the 60 dBu service contour of the translator station exceed 8.7 km from the transmitter site in the direction of the Mexican border.

(2) Translator stations located between 125 kilometers and 320 kilometers from the Mexican border may operate with a maximum ERP of 250 watts in any direction. However, in no event shall the location of the 60 dBu contour lie within 116.3 km of the Mexican border.

[FR Doc. 2021-15684 Filed 8-5-21; 8:45 am]

BILLING CODE 6712-01-P